DEPARTMENT OF VETERANS AFFAIRS

Veterans' Advisory Committee on Rehabilitation: Notice of Meeting

The Department of Veterans Affairs (VA) gives notice under the Federal Advisory Committee Act, 5 U.S.C. App.2, that a meeting of the Veterans' Advisory Committee on Rehabilitation (hereinafter the Committee) will be held virtually on Wednesday and Thursday, August 3-4, 2022 from 11 a.m. to 3:30 p.m. EST. The meeting sessions are open to the public.

The purpose of the Committee is to provide advice to the Secretary of VA on the rehabilitation needs of Veterans with disabilities and on the administration of VA's Veteran rehabilitation programs. The Committee members will receive information on how VA assists Service members with transitioning to the civilian work force to include awareness of VA benefits, outreach efforts, and supported employment programs. In addition, the Committee will discuss and explore potential recommendations to be included in the next annual report.

Although no time will be allocated for receiving oral presentations from the public, members of the public may submit written statements for review by the Committee to David Smith, Designated Federal Officer, Veterans Benefits Administration (28), 810 Vermont Avenue NW, Washington, DC 20420, or at VACOR.VBACO@va.gov. In the communication, writers must identify themselves and state the organization, association, or persons they represent.

For any members of the public who wish to attend virtually, please use the Microsoft Teams Meeting link: https://teams.microsoft.com/l/meetup-join/19%3ameeting_MGQ5NDZiMDItZWRhNy00MzIyLWE4MTEtOWI5ODc4MWI2YTE3%40thread.v2/0?context=%7b%22Tid%22%3a%22e95f1b23-abaf-45ee-821d-b7ab251ab3bf%22%2c%22Oid%22%3a%228252bbc1-b123-48c8-aa1c-6f43c7d548c7%22%7d.

Or call in (audio only) Tel: + 1872-701-0185, United States, Chicago.

Phone Conference ID: 845052697#.

Dated: July 13, 2022.
LaTonya L. Small,
Federal Advisory Committee Management Officer.

[FR Doc. 2022-15285 Filed 7-15-22; 8:45 am]

BILLING CODE P